Proclamation 10715 of March 29, 2024

Care Workers Recognition Month, 2024

By the President of the United States of America

A Proclamation

Every day, care workers dedicate themselves to ensuring the people we love are safe and secure. They watch over our children, assist our parents, and support loved ones with disabilities. Their work makes all other work possible. During Care Workers Recognition Month, we honor their tireless efforts; express our gratitude for their unwavering devotion; and commit to ensuring they receive the pay, benefits, and recognition they deserve.

The services care workers provide are not only essential to so many lives—they are crucial for our economy. But for too long, care workers' paychecks have not reflected the value of their demanding and important work. In fact, care workers are among the lowest paid workers in the country. Of the millions of care workers in our Nation, the majority are women of color, deepening racial and gender wage and wealth gaps. Each year, half of the long-term care workforce and nearly 20 percent of the child care workforce end up leaving their jobs, which makes it difficult for the families who depend on care workers to find the stable and secure support they need.

My Administration is committed to getting care workers the resources and respect they deserve. In 2021, we invested over $60 billion from our American Rescue Plan in the care economy. That funding helped keep 225,000 child care centers open during the COVID-19 pandemic, ensuring that the 10 million children they served had a place to go. It also provided increased pay and bonuses and secured better benefits for child care workers, helping hundreds of thousands of mothers with young children enter or re-enter the workforce. Through our expanded earned income tax credit alone, we delivered financial relief to nearly 300,000 child care workers. My Budget includes robust proposals in care infrastructure, including through investments in caregiving for military families and investments in child care to increase accessibility and guarantee affordable, high-quality child care from birth until kindergarten.

In addition, the Executive Order I signed last year includes the most comprehensive set of actions any administration has taken to increase access to high-quality care and support for caregivers. It directs almost every cabinet-level agency to take over 50 actions that provide more peace of mind for families and more dignity for care workers who deserve jobs with good pay and good benefits. For example, the Department of Health and Human Services released a proposed rule that would raise Head Start teacher wages by more than $10,000 on average and strengthen Head Start's ability to recruit and retain staff. Further, I directed the Department of Veterans Affairs to give veterans who need assistance at home more flexibility to pick their own caregivers. The Department of Labor has invested tens of millions of dollars in boosting the quality of care jobs and expanding access to them.

Additionally, agencies are working to improve the quality of home care and nursing home jobs. My Administration is taking steps to get home care workers the pay they deserve by making sure they get a bigger share of Medicaid payments, and to strengthen requirements for nursing homes so that staff are not stretched thin and residents get the attention they need. My Administration is also promoting apprenticeship programs that put careers as registered and licensed nurses within reach so that we can both add and keep long-term care workers on the job.

Care workers are our Nation's hidden heroes. They support so many of our families across the country, and it is our responsibility to ensure that they are not left behind. This Care Workers Recognition Month, in addition to expressing our gratitude for their selfless dedication to our loved ones and honoring their tremendous value to our society, we also recommit to ensuring that they are rewarded for their extraordinary contributions to America.

NOW, THEREFORE, I, JOSEPH R. BIDEN JR., President of the United States of America, by virtue of the authority vested in me by the Constitution and the laws of the United States, do hereby proclaim April 2024 as Care Workers Recognition Month. I call upon all Americans to celebrate the contributions of care workers to our Nation with appropriate ceremonies, activities, and programs.

IN WITNESS WHEREOF, I have hereunto set my hand this twenty-ninth day of March, in the year of our Lord two thousand twenty-four, and of the Independence of the United States of America the two hundred and forty-eighth.

[FR Doc. 2024-07174

Filed 4-2-24; 8:45 am]

Billing code 3395-F4-P